DEPARTMENT OF ENERGY

Federal Energy Regulatory Commission

[Project No. 199-205]

South Carolina Public Service Authority; Notice of Application Tendered for Filing With the Commission, Soliciting Additional Study Requests, and Establishing Procedural Schedule for Relicensing and a Deadline for Submission of Final Amendments

March 26, 2004.

Take notice that the following hydroelectric application has been filed with the Commission and is available for public inspection.

a. Type of Application: New Major License.

b. Project No.: 199-205.

c. Date Filed: March 15, 2004.

d. Applicant: South Carolina Public Service Authority.

e. Name of Project: Santee Cooper Hydroelectric Project.

f. Location: On the Santee and Cooper Rivers in Berkeley, Calhoun, Clarendon, Orangeburg, and Sumter counties, near Moncks Corner, South Carolina. The project does not affect federal lands.

g. Filed Pursuant to: Federal Power Act 16 U.S.C. 791 (a)-825(r).

h. Applicant Contact: John Dulude, South Carolina Public Service Authority, One Riverwood Plaza, P.O. Box 2946101, Moncks Corner, SC 29461-2901, (843) 761.4046.

i. FERC Contact: Ronald McKitrick, (770) 452.3778 or ronald.mckitrick@ferc.gov.

j. Cooperating agencies: We are asking Federal, State, local, and tribal agencies with jurisdiction and/or special expertise with respect to environmental issues to cooperate with us in the preparation of the environmental document. Agencies who would like to request cooperating status should follow the instructions for filing comments described in item l below.

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: May 14, 2004.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site (http://www.ferc.gov) under the “e-Filing” link.

m. This application is not ready for environmental analysis at this time.

n. The existing Santee Cooper Project consists of the Santee Development: (1) Hydraulic fill 4.4 mile long, 50 foot high North Dam (2) homogeneous rolled, 2.8 mile long, 48 foot high South Dam (3) 3,358 foot spillway, powerhouse with the installed capacity of 1.92 MW; the Cooper Development (4) earthfill, 3,700 foot long, 60 foot high East Dam, (5) earthfill, 6,000 foot long, 78 foot high West Dam, (6) uncompacted fill, 29.8 mile long, 25 foot high, east, west, north dikes, (7) powerhouse with the installed capacity of 132.62 MW, and (8) appurtenant facilities. The applicant estimates that the total average annual generation would be 106, 530 megawatthours.

o. A copy of the application is available for review at the Commission in the Public Reference Room or may be viewed on the Commission's website at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

p. With this notice, we are initiating consultation with the South Carolina STATE HISTORIC PRESERVATION OFFICER (SHPO), as required by § 106, National Historic Preservation Act, and the regulations of the Advisory Council on Historic Preservation, 36 CFR 800.4.

q. Procedural schedule and final amendments: The application will be processed according to the following Hydro Licensing Schedule. Revisions to the schedule will be made as appropriate.

Issue Deficiency Letter—July 2004

Issue Acceptance Letter—October 2004

Issue Scoping Document 1 for comments—January 2005

Request Additional Information—March 2005

Issue Scoping Document 2—April 2005

Notice of application is ready for environmental analysis—May 2005

Notice of the availability of the EA—November 2005

Ready for Commission's decision on the application—February 2006

Final amendments to the application must be filed with the Commission no later than 30 days from the issuance date of the notice of ready for environmental analysis.

Magalie R. Salas,
Secretary.

[FR Doc. E4-731 Filed 3-31-04; 8:45 am]

BILLING CODE 6717-01-P